SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before January 19, 2021.

ADDRESSES: Send all comments to Kelly Templeton Financial Analyst, Office of Portfolio Management and Office of Financial Program Operations, Small Business Administration, 409 3rd Street, 6th Floor, Washington, DC 20416.

FOR FURTHER INFORMATION CONTACT: Kelly Templeton Financial Analyst, Office of Portfolio Management and Office of Financial Program Operations, Kelly.templeton@sba.gov, or Curtis B. Rich, Management Analyst, 202-205-7030, curtis.rich@sba.gov;

SUPPLEMENTARY INFORMATION: SBA has authority under 15 U.S.C. 634(b) and 31 U.S.C. 3711 to compromise and settle debts owed to the Agency by borrowers or guarantors in SBA's loan programs. The financial information provided by debtors on SBA Form 770 is a prerequisite to such compromise or settlement. SBA uses the information in making a determination regarding the repayment and or compromise of the debts and other liquidation proceedings, including litigation by the Agency and/or the Department of Justice.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0012.

Title: Financial Statement of Debtor.

Description of Respondents: Debtors in SBA Loan Program.

Form Number: SBA Form 770.

Total Estimated Number of Respondents: 5,000.

Total Estimated Annual Responses: 5,000.

Total Estimated Annual Hour Burden: 5,000.

Curtis Rich,
Management Analyst.

[FR Doc. 2020-25703 Filed 11-19-20; 8:45 am]

BILLING CODE 8026-03-P